DEPARTMENT OF AGRICULTURE

Agricultural Marketing Service

7 CFR Part 984

[Doc. No. AO-192-A7; AMS-FV-07-0004; FV06-984-1 C]

Walnuts Grown in California; Order Amending Marketing Order No. 984; Correcting Amendment

AGENCY: Agricultural Marketing Service, USDA.

ACTION: Final rule; correcting amendment.

SUMMARY: The Agricultural Marketing Service published a final rule in the Federal Register on March 3, 2008 (73 FR 11328). The document implemented amendments to the California walnut marketing order. However, that document inadvertently omitted a change that would make the term of office for California Walnut Board (Board) members correspond with the time period prescribed for the Board's marketing year. This correcting amendment changes the term of office of Board members from July 1 through June 30 to September 1 through August 31 to correspond with the Board's marketing year.

DATES: Effective Date: April 24, 2009.

FOR FURTHER INFORMATION CONTACT: Melissa Schmaedick, Marketing Order Administration Branch, Fruit and Vegetable Programs, AMS, USDA; Northwest Marketing Field Office, Portland, Oregon 97204; Telephone: (503) 326-2724, Fax: (503) 326-2724, or e-mail: Melissa.Schmaedick@ams.usda.gov.

Small businesses may request information on complying with this regulation by contacting Jay Guerber, Marketing Order Administration Branch, Fruit and Vegetable Programs, AMS, USDA, 1400 Independence Avenue, SW., STOP 0237, Washington, DC 20250-0237; Telephone: (202) 720-2491, Fax: (202) 720-8938, or e-mail: Jay.Guerber@ams.usda.gov.

SUPPLEMENTARY INFORMATION: This document provides a correcting amendment to Marketing Order 984, as amended, (7 CFR part 984), regulating the handling of walnuts grown in California, hereinafter referred to as the “order.”

A Secretary's Decision and Referendum Order was published in the July 13, 2007, Federal Register (72 FR 38498). That document proposed several amendments to the order, including changing the term of office of Board members from July 1 through June 30, to September 1 through August 31 so the term of office would correspond with the proposed change to the marketing year defined in the order. That document also directed that a referendum be held among producers to determine if they supported the proposed changes. In referendum, producers approved the proposed changes.

A final rule establishing an Order Amending Marketing Order No. 984 was issued in the Federal Register on March 4, 2008 (73 FR 11328). That document included amendments approved by producers in referendum, but omitted the amendment to change the term of office of Board members. This action corrects the amended order to include the change that was omitted.

List of Subjects in 7 CFR Part 984

Marketing agreements, Nuts, Reporting and recordkeeping requirements, Walnuts.

Accordingly, 7 CFR part 984 is amended by making the following correcting amendment:

PART 984—WALNUTS GROWN IN CALIFORNIA

1. The authority citation for 7 CFR part 984 continues to read as follows:

Authority: 7 U.S.C. 601-674.

2. Section 984.36 is revised to read as follows:

§ 984.36 Term of office.

The term of office for Board members and their alternates shall be for a period of two years ending on August 31 of odd-numbered years, but they shall serve until their respective successors are selected and have qualified.

Dated: April 17, 2009.
Robert C. Keeney,
Acting Associate Administrator.

[FR Doc. E9-9289 Filed 4-22-09; 8:45 am]

BILLING CODE 3410-02-P